DEPARTMENT OF TRANSPORTATION

Federal Aviation Administration

14 CFR Part 121

[Docket No. FAA-2005-22449]

RIN 2120-AI16

Flightdeck Door Monitoring and Crew Discreet Alerting Systems

AGENCY: Federal Aviation Administration (FAA), DOT.

ACTION: Notice of proposed rulemaking; correction.

SUMMARY: This document corrects the preamble to a proposed rule published in the Federal Register on September 21, 2005, regarding flightdeck door monitoring and crew discreet alerting systems. This correction adds two vendors that sell video camera systems to the ones cited in the preamble.

FOR FURTHER INFORMATION CONTACT: Allen A. Mattes, Office of Aviation Policy and Plans, telephone; (202) 267-3412.

Correction

In the proposed rule FR Doc. 05-18806 published on September 21, 2005, (70 FR 55492) make the following correction:

1. On page 55495 for the proposed rule, in the second column, fourth paragraph, replace the contents of the paragraph with the following:

“Certificate holders that choose to install a video camera system to comply with this rule, would incur the following costs. Some turbojets would need a two- or three-camera system while regional jets, including turbojets and turboprops, would need a one-camera system. AirWorks, AEI/AD Aerospace, Bournemouth Aviation Ltd., Goodrich, and Hollingsead International are the only vendors currently supplying these systems for airplanes. Many of their systems have Supplemental Type Certificates (STCs) issued by the FAA. These vendors are selling their systems to several European and Asian airlines as a result of United Kingdom (UK) Department for Transport Directive 21(a), issued on January 27, 2003, which strictly follows the ICAO requirements including the November 1, 2003 deadline. Thus, the FAA bases its estimated average costs on the vendors' reported costs.”

Issued in Washington, DC on October 25, 2005.
Anthony F. Fazio,
Director, Office of Rulemaking.

[FR Doc. 05-21747 Filed 10-31-05; 8:45 am]

BILLING CODE 4910-13-P